DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by February 5, 2004.

Title and OMB Number: Defense Federal Acquisition Regulation Supplement (DFARS) Subparts 227.71, “Rights in Technical Data;” and 227.72, “Rights in Computer Software and Computer Software Documentation;” and related clauses and provisions at 252.227; OMB Number 0704-0369.

Type of Request: Reinstatement, Without Change, of a Previously Approved Collection, for Which Approval has Expired.

Number of Respondents: 54,925.

Responses Per Respondent: 21 (average).

Annual Responses: 1,034,342.

Average Burden Per Response: 1.7 hours (average).

Annual Burden Hours: 1,760,155.

Needs and Uses: The Defense Federal Acquisition Regulation Supplement (DFARS) Subparts 227.71 and 227.72 prescribe the use of solicitation provisions and contract clauses containing information collection requirements that are associated with rights in technical data and computer software. DoD needs this information to implement 10 U.S.C. 2320, “Rights in Technical Data,” and 10 U.S.C. 2321, “Validation of Proprietary Data Restrictions.” DoD uses the information to recognize and protect contractor rights in technical data and computer software that are associated with privately funded developments; and to ensure that technical data delivered under a contract is complete and accurate and satisfies contract requirements.

Affected Public: Business or Other For-Profit; Not-For-Profit Institutions.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10235, New Executive Office Building, Washington, DC 20503.

DoD Clearance Officer: Ms. Jacqueline Davis.

Written requests for copies of the information collection proposal should be sent to Ms. Davis, WHS/DIOR, 1215 Jefferson Davis Highway, Suite 1204, Arlington, VA 22202-4302.

Dated: December 30, 2003.
L.M. Bynum,
Alternate OSD Federal Register Liaison Officer, Department of Defense.

[FR Doc. 04-193 Filed 1-5-04; 8:45 am]

BILLING CODE 5001-06-M